ENVIRONMENTAL PROTECTION AGENCY

[EPA-HQ-OAR-2023-0063; FRL-10797-02-OAR]

Draft Guidance on the Preparation of State Implementation Plan Provisions That Address the Nonattainment Area Contingency Measure Requirements for Ozone and Particulate Matter

AGENCY: Environmental Protection Agency (EPA).

ACTION: Notice of availability and public comment period.

SUMMARY: Notice is hereby given that the Environmental Protection Agency (EPA) has posted on its website a draft guidance document titled, “Draft Guidance on the Preparation of State Implementation Plan Provisions that Address the Nonattainment Area Contingency Measure Requirements for Ozone and Particulate Matter.” The EPA invites the public to review and provide input on certain issues in its draft guidance document during the comment period specified in the DATES section. The issues for which EPA is seeking input are identified in sections 3, 4, and 5 of the draft guidance document.

DATES: Comments must be received on or before April 24, 2023. Please refer to SUPPLEMENTARY INFORMATION for additional information on the comment period.

ADDRESSES: Submit your comments, identified by Docket ID No. EPA-HQ-OAR-2023-0063], at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions and general guidance on making effective comments, please visit http://www2.epa.gov/dockets/commenting-epa-dockets.

FOR FURTHER INFORMATION CONTACT: For general questions concerning this draft guidance document, please contact Michael Ling, U.S. EPA, Office of Air Quality Planning and Standards, Air Quality Policy Division, C539-01, Research Triangle Park, NC 27711, telephone (919) 541-4729, email at ling.michael@epa.gov.

SUPPLEMENTARY INFORMATION:

I. Purpose

The purpose of the draft guidance on which the EPA is inviting public comment is to assist air agencies that are required to prepare nonattainment plan state implementation plan submissions for ozone or particulate matter under Part D of Title I of the Clean Air Act (CAA). Specifically, the draft guidance focuses on the requirement for those plans to include contingency measures (CMs), which are control requirements that would take effect if an area fails to attain an ozone or particulate matter National Ambient Air Quality Standard by an applicable attainment date, or fails to meet reasonable further progress requirements. These CM requirements are specified in CAA section 172(c)(9) for nonattainment areas generally, and in CAA section 182(c)(9) for ozone nonattainment areas classified Serious and higher.

The draft guidance focuses on three aspects of CM guidance that the EPA is revising or updating, summarized later in this notice, for which EPA is seeking input. The document also provides additional information to summarize EPA's existing guidance for CMs more broadly, including aspects that EPA is not changing, to ensure clarity and national consistency. In sections 3, 4 and 5 of the draft guidance, EPA is seeking input on the three key new or revised aspects of EPA's CM guidance. First, the guidance addresses the method that air agencies should use to calculate the EPA-recommended amount of emissions reductions that CMs should provide. Second, the guidance provides recommendations for an infeasibility justification, for an air agency to use if it cannot identify feasible CMs in a sufficient quantity to produce the recommended amount of CM emission reductions. Third, the guidance changes the recommended time period within which reductions from CMs should occur, which the EPA generally recommended to be one year, but which the EPA is now recommending be changed to 2 years if there are insufficient CMs available to achieve the recommended amount of emissions reductions within 1 year.

II. Instructions for Submitting Public Comments and Internet Website for Guidance Document Information

A. What should I consider as I prepare my comments for the EPA?

1. Submitting CBI. Do not submit information containing CBI to the EPA through https://www.regulations.gov/. Clearly mark the part or all of the information that you claim to be CBI. For CBI information on any digital storage media that you mail to the EPA, note the docket ID, mark the outside of the digital storage media as CBI, and identify electronically within the digital storage media the specific information that is claimed as CBI. In addition to one complete version of the comments that includes information claimed as CBI, you must submit a copy of the comments that does not contain the information claimed as CBI directly to the public docket through the procedures outlined in Instructions above. If you submit any digital storage media that does not contain CBI, mark the outside of the digital storage media clearly that it does not contain CBI and note the docket ID. Information not marked as CBI will be included in the public docket and the EPA's electronic public docket without prior notice. Information marked as CBI will not be disclosed except in accordance with procedures set forth in 40 Code of Federal Regulations (CFR) part 2. Our preferred method to receive CBI is for it to be transmitted electronically using email attachments, File Transfer Protocol (FTP), or other online file sharing services (e.g., Dropbox, OneDrive, Google Drive). Electronic submissions must be transmitted directly to the OAQPS CBI Office at the email address oaqpscbi@epa.gov, and as described earlier, should include clear CBI markings and note the docket ID. If assistance is needed with submitting large electronic files that exceed the file size limit for email attachments, and if you do not have your own file sharing service, please email oaqpscbi@epa.gov to request a file transfer link. If sending CBI information through the postal service, please send it to the following address: OAQPS Document Control Officer (C404-02), OAQPS, U.S. Environmental Protection Agency, Research Triangle Park, North Carolina 27711, Attention Docket ID No. EPA-HQ-OAR-2023-0063. The mailed CBI material should be double wrapped and clearly marked. Any CBI markings should not show through the outer envelope.

2. Tips for Preparing Your Comments. When submitting comments, remember to:

• Identify the draft guidance by docket number and other identifying information (subject heading, Federal Register date and page number).

• Follow directions.

• Explain why you agree or disagree; suggest alternatives and substitute language for your requested changes.

B. Where can I find additional information for this draft guidance?

A copy of the draft guidance can be found in the docket and a website for this draft guidance at https://www.epa.gov/air-quality-implementation-plans/draft-contingency-measures-guidance.

Scott Mathias,
Director, Air Quality Policy Division, Office of Air Quality Planning and Standards.

[FR Doc. 2023-06010 Filed 3-22-23; 8:45 am]

BILLING CODE 6560-50-P